COMMISSION ON CIVIL RIGHTS

Agenda and Notice of Public Meeting of the Florida Advisory Committee

Notice is hereby given, pursuant to the provisions of the rules and regulations of the U.S. Commission on Civil Rights (Commission) and the Federal Advisory Committee Act (FACA) that a meeting of the Florida Advisory Committee (Committee) to the Commission will convene at 1:30 p.m. and adjourn at approximately 3:30 p.m. on Tuesday, April 29, 2014. The meeting will be held at the Disability Rights Florida, 2728 Centerview Drive, Suite 102, Tallahassee, 32301. The purpose of the meeting is for the Committee to plan its human trafficking project.

Members of the public are entitled to submit written comments. Comments must be received in the regional office by May 29, 2014. Comments may be mailed to the Southern Regional Office, U.S. Commission on Civil Rights, 61 Forsyth St. SW., Suite 16T126, Atlanta, GA, 30303. They may also be faxed to the Committee at (404) 562-7005 or emailed to Peter Minarik at pminarik@usccr.gov. Persons who desire additional information may contact the Southern Regional Office at (404) 562-7000.

Hearing-impaired persons who will attend the meeting and require the services of a sign language interpreter should contact the Southern Regional Office at least ten (10) working days before the scheduled date of the meeting.

Records generated from this meeting may be inspected and reproduced at the Southern Regional Office, as they become available, both before and after the meeting. Persons interested in the work of this advisory committee are advised to go to the Commission's Web site, www.usccr.gov, or to contact the Southern Regional Office at the above email or street address.

The meeting will be conducted pursuant to the provisions of the rules and regulations of the Commission and FACA.

Dated in Chicago, IL, April 10, 2014.
David Mussatt,
Acting Chief, Regional Programs Coordination Unit.

[FR Doc. 2014-08511 Filed 4-14-14; 8:45 am]

BILLING CODE 6335-01-P